DEPARTMENT OF COMMERCE

National Oceanic and Atmospheric Administration

[RTID 0648-XE521]

Deepwater Horizon Natural Resource Damage Assessment Texas Trustee Implementation Group Draft Restoration Plan/Environmental Assessment #3: Wetlands, Coastal, and Nearshore Habitats

AGENCY: National Marine Fisheries Service (NMFS), National Oceanic and Atmospheric Administration (NOAA), Commerce.

ACTION: Notice of availability; request for public comments.

SUMMARY: The Deepwater Horizon (DWH) natural resource Trustees for the Texas Trustee Implementation Group (Texas TIG) have prepared the Draft Restoration Plan/Environmental Assessment #3: Wetlands, Coastal, and Nearshore Habitats (Draft RP/EA #3). The Draft RP/EA #3 proposes alternatives to help restore wetlands, coastal, and nearshore habitats impacted by the DWH oil spill. The Draft RP/EA #3 evaluates eight restoration alternatives under the Oil Pollution Act of 1990 (OPA), including criteria set forth in the OPA Natural Resource Damage Assessment (NRDA) regulations and the National Environmental Policy Act (NEPA) and its implementing regulations. A No Action Alternative is also evaluated pursuant to the NEPA. The total estimated cost to implement the Texas TIG's seven preferred alternatives is approximately $40 million. The Texas TIG invites the public to comment on the Draft RP/EA #3.

DATES: Submitting Comments: The Texas TIG will consider public comments on the Draft RP/EA #3 received on or before February 18, 2025.

Public meeting: The Texas TIG will host a public meeting to facilitate public review and comment on the Draft RP/EA #3. The public meeting date and time are as follows:

• Tuesday, January 28, 2025. An open house will be begin at 5 p.m. central time (CT). The public meeting will be held at 5:30 CT. See ADDRESSES below for meeting location.

ADDRESSES: Meeting location: The meeting will be held at Rosenburg Library in the Wortham Auditorium, 2310 Sealy Avenue, Galveston, TX 77750.

Obtaining Documents: You may view and download the Draft RP/EA #3 at https://www.gulfspillrestoration.noaa.gov/restoration-areas/texas. You may also request a flash drive containing the Draft RP/EA #3 (see FOR FURTHER INFORMATION CONTACT).

Submitting comments: You may submit comments on the Draft RP/EA #3 by any of the following methods:

• Website: https://parkplanning.nps.gov/TXTIGRP3. Follow the online instructions for submitting comments.

• In person: Comments may be provided at the public meeting. See DATES.

• Mail: U.S. Fish and Wildlife Service Gulf Restoration Office, 1875 Century Blvd., Atlanta, GA 30345. To be considered, mailed comments must be postmarked on or before the comment deadline given in DATES.

Please note that personal identifying information included in the submitted comments (such as name, address, phone number, and email address) may be made publicly available at any time. Personal information is not required to submit comments.

FOR FURTHER INFORMATION CONTACT: National Oceanic and Atmospheric Administration—Jamie Schubert, NOAA Restoration Center, (409) 679-3237, jamie.schubert@noaa.gov.

SUPPLEMENTARY INFORMATION:

Introduction

On April 20, 2010, the mobile offshore drilling unit Deepwater Horizon, which was drilling a well for BP Exploration and Production, Inc. (BP), experienced a significant explosion, fire and subsequent sinking in the Gulf of Mexico, resulting in the release of millions of barrels of oil and other discharges into the Gulf. Under the authority of the OPA, designated Federal and state Trustees, acting on behalf of the public, assessed the injuries to natural resources and prepared the Deepwater Horizon Oil Spill Final Programmatic Damage Assessment and Restoration Plan and Final Programmatic Environmental Impact Statement (Final PDARP/PEIS), and the Record of Decision for the Deepwater Horizon Oil Spill Final Programmatic Damage Assessment and Restoration Plan and Final Programmatic Environmental Impact Statement (ROD), which set forth the governance structure and process for DWH restoration planning under the OPA NRDA regulations. On April 4, 2016, the United States District Court for the Eastern District of Louisiana entered a Consent Decree resolving civil claims by the Trustees against BP.

The Texas TIG, which is composed of the NOAA, U.S. Department of the Interior, the U.S. Environmental Protection Agency, the U.S. Department of Agriculture, the Texas General Land Office, the Texas Parks and Wildlife Department, and the Texas Commission on Environmental Quality, selects and implements restoration projects under the Texas TIG's management authority in accordance with the Consent Decree. The Final PDARP/PEIS, ROD, Consent Decree, and information on the DWH natural resource Trustees can be found at https://www.gulfspillrestoration.noaa.gov/restoration-planning/gulf-plan.

Background

On August 5, 2024, the Texas TIG announced on the Gulf Spill Restoration website that they were initiating preparation of the Draft RP/EA #3, which tiers from the Final PDARP/PEIS and includes a reasonable range of restoration project alternatives to provide compensatory restoration toward meeting the Restore and Conserve Habitats restoration goal identified in the Final PDARP/PEIS under the Wetlands, Coastal, and Nearshore Habitats (WCNH) Restoration Type.

Overview of the Texas TIG Draft RP/EA #3

This Draft RP/EA #3 focuses on the beneficial use of dredged material (BUDM) to restore and conserve wetlands, coastal, and nearshore habitats. The Texas TIG proposes the allocation of $40 million toward the use of BUDM to construct wetland habitat along the Texas coast through the projects included in the Draft RP/EA #3. The $40 million will be divided among the selected projects to provide the incremental cost for the U.S. Army Corps of Engineers or to fund other viable sources to beneficially use dredged sediments to construct the preferred restoration alternatives. This Draft RP/EA #3 includes a description and evaluation of eight restoration projects, also called restoration alternatives, which compensate for the WCNH Restoration Type injury described in the Final PDARP/PEIS. Seven alternatives are preferred and one of the alternatives is not preferred by the Texas TIG at this time. Pursuant to NEPA, a No Action alternative is also evaluated. Funding to implement any of the alternatives ultimately selected by the Texas TIG would come from the WCNH Restoration Type allocation. The reasonable range of project alternatives evaluated by the Texas TIG are listed below:

• Anahuac National Wildlife Refuge Roberts Mueller Tract Wetland Restoration (preferred);

• Goose Island Wetland Restoration (preferred);

• Guadalupe River Old Delta Wetland Restoration (not preferred);

• Lower Neches Wildlife Management Area Old River Unit Wetland Restoration (preferred);

• McFaddin National Wildlife Refuge Willow Lake Terraces Wetland Restoration (preferred);

• San Bernard National Wildlife Refuge Sargent Oil Field Wetland Restoration (preferred);

• Schicke Point Wetland Restoration (preferred); and

• Texas Point National Wildlife Refuge Wetland Restoration (preferred).

The total estimated cost to implement the seven preferred alternatives is $40 million.

Next Steps

After the public comment period ends, the Texas TIG will consider and address all substantive comments received before making a final decision on which, if any, alternatives to fund and implement. A Final RP/EA #3 and Finding of No Significant Impact, as appropriate, identifying the selected alternatives will be made publicly available on https://www.gulfspillrestoration.noaa.gov/restoration-areas/texas.

Administrative Record

The Administrative Record for the Draft RP/EA #3 can be viewed electronically at https://www.doi.gov/deepwaterhorizon/adminrecord under the folder 6.5.7.2.3.

Authority

The authority for this action is the OPA of 1990 (33 U.S.C. 2701 et seq.), its implementing NRDA regulations found at 15 CFR part 990, and the NEPA of 1969 (42 U.S.C. 4321 et seq.), its implementing regulations found at 40 CFR parts 1500 through 1508.

Dated: January 10, 2025.
Carrie Diane Robinson,
Director, Office of Habitat Conservation, National Marine Fisheries Service.

[FR Doc. 2025-00942 Filed 1-15-25; 8:45 am]

BILLING CODE 3510-12-P